DEPARTMENT OF THE INTERIOR

Bureau of Land Management

43 CFR Part 8360

[PO #4820000251]

Final Supplementary Rule for Public Lands in the Colorado River Valley, Grand Junction and Kremmling Field Offices, and the Dominguez-Escalante National Conservation Area, CO

AGENCY: Bureau of Land Management, Interior.

ACTION: Final supplementary rule.

SUMMARY: The Bureau of Land Management (BLM) is finalizing a supplementary rule to protect natural resources and public health and safety. The final supplementary rule applies to public lands and BLM facilities managed by the Colorado River Valley, Grand Junction, and Kremmling Field Offices, and the Dominguez-Escalante National Conservation Area (NCA) in Colorado managed by the Grand Junction and Uncompahgre Field Offices.

DATES: This final supplementary rule is effective January 18, 2025.

ADDRESSES: Inquiries may be directed to the Colorado River Valley Field Office at (970) 876-9000 or 2300 River Frontage Road, Silt, CO 81652; the Grand Junction Field Office at (970) 244-3000 or 2815 H Road, Grand Junction, CO 81506; or the Kremmling Field Office at (970) 724-3000 or 2103 E. Park Avenue, Kremmling, CO 81459.

The final rule and accompanying documentation are available for inspection on the ePlanning website at: https://eplanning.blm.gov/eplanning-ui/project/90071/510.

FOR FURTHER INFORMATION CONTACT: Erin Jones, Upper Colorado River District Associate District Manager, 2815 H Road, Grand Junction, CO 81506; telephone (970) 244-3008; email: erjones@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Background

The BLM is establishing this supplementary rule under the authority of 43 CFR 8365.1-6, which authorizes BLM State Directors to establish supplementary rules for the protection of persons, property, and public lands and resources.

The BLM approved resource management plans (RMPs) for the Colorado River Valley, Grand Junction, and Kremmling Field Offices in 2015, and for the Dominguez-Escalante NCA in 2017. The RMPs identify management actions that restrict certain activities and define allowable uses to protect natural resources and public health and safety. This final supplementary rule is necessary to implement those management decisions and make them enforceable.

The field offices completed their RMP processes and issued Records of Decision (RODs) after inviting the public to comment during scoping and public-comment periods. The field offices reviewed each public comment received during each step of the process and responded to all comments received during the public comment periods. (See the individual RMPs for responses to public comments.)

II. Discussion of Public Comments

The BLM published a proposed supplementary rule on January 25, 2024 (89 FR 4872). The BLM received 432 comment letters during the 60-day public comment period, 344 of which were identical form letters and 88 of which were unique comments. Of those 88 unique comment letters, 17 contained substantive comments. Many comment letters expressed support for the proposed supplementary rule, but other letters said the proposed rules were too restrictive. Many of the form letters expressed the need for clarification and justification of some of the rules.

The proposed rule's restrictions on dispersed camping received the most comments. Commenters were concerned that the rule would diminish their ability to camp in dispersed areas. However, even with these restrictions, the vast majority of each of the field offices and the NCA would still be open to dispersed camping. Over 500,000 acres in the Colorado River Valley Field Office, over 300,000 acres in the Kremmling Field Office, and over 1 million acres in the Grand Junction Field Office (including the Dominguez-Escalante NCA) would still be available for dispersed camping. These comments did not result in changes to the final rule.

Some commenters said the public would not know about the new rule once it is finalized and that the BLM would have trouble enforcing it. The BLM plans to begin a public education campaign to help inform the public of the new rule, including through personal contacts in the field, signs, and other methods. These comments did not result in changes to the final rule.

In its comment, Eagle County requested that the BLM add a rule prohibiting public land users from leaving unsecured trash at campsites and requiring that unattended food and trash be stored in a sealed container or in locked vehicles. However, the BLM did not consider or analyze this requirement when preparing the Colorado River Valley Field Office RMP and the proposed supplementary rule, which precludes us from including this requirement in this final rule. The BLM will work with the county and the public to address trash concerns. The BLM did not change the final rule to address this comment.

The Kremmling Board of Trustees commented that the proposed rule would greatly reduce the number of areas within the Kremmling Field Office's jurisdiction that are available for recreational shooting. The BLM included this reduction in the final 2015 Kremmling RMP, and the public had the opportunity to comment on it at that time. Implementation of the restrictions in this final rule will result in over 300,000 acres still being available for recreational target shooting in areas managed by the Kremmling Field Office. This comment did not result in a change to the rule.

The BLM changed the definition of “target backstop” in the final rule based on comments received from Shooting Sports Round-table members that the proposed definition was too specific and that there are other backstop designs that will accomplish the same goal. The BLM also added language that states “you must not engage in target shooting without a target backstop” to each of the field offices' final rules. In the proposed rule, the BLM listed this requirement under the Colorado River Valley Field Office's rules only, which was an error.

In its comment on the proposed rule, Mesa County pointed out that the BLM made an error in including “Coal Gulch” in the Grand Junction Field Office mechanized travel winter closure areas in Table 6—Areas Closed to Mechanized Travel During Winter/Spring. The BLM agrees that this is an error and has removed Coal Gulch from this list (see Rule 8 below).

III. Discussion of the Final Supplementary Rule

This final supplementary rule will apply to public lands and BLM facilities managed by the Colorado River Valley Field Office, Grand Junction Field Office, Kremmling Field Office, and Dominguez-Escalante NCA.

This final supplementary rule will address resource damage, public safety, wildland fire, and wildlife disruption concerns. The BLM consulted with the Shooting Sports Roundtable while preparing each RMP to coordinate on the shooting closures described in this final rule.

The final supplementary rule conforms with management decisions contained in the following RMPs:

• Colorado River Valley RMP (2015) as amended by the Sutey Ranch and Haines Parcel Approved RMP Amendment (2019);

• Grand Junction RMP (2015);

• Kremmling RMP (2015); and

• Dominguez-Escalante NCA RMP (2017).

IV. Procedural Matters

Regulatory Planning and Review (Executive Orders (E.O.) 12866, 13563, and 14094)

This final supplementary rule is not subject to review by the Office of Management and Budget under E.O. 12866 as amended by E.O. 14094. This final supplementary rule will not have an effect of $200 million or more on the economy and will not adversely affect in a material way productivity; competition; jobs; the environment; public health or safety; or State, local, or Tribal governments or communities. This final supplementary rule will not create a serious inconsistency or otherwise interfere with an action taken or planned by another agency. This final supplementary rule will not materially alter the budgetary effects of entitlements, grants, user fees, or loan programs, or the rights or obligations of their recipients, nor does it raise novel legal or policy issues.

Regulatory Flexibility Act

Congress enacted the Regulatory Flexibility Act of 1980 (RFA), as amended, 5 U.S.C. 601-612, to ensure that government regulations do not unnecessarily or disproportionately burden small entities. The RFA requires a regulatory flexibility analysis if a rule will have a significant economic impact, either detrimental or beneficial, on a substantial number of small entities. The BLM considered economic impacts at the time it developed the land use plans that underpin this final supplementary rule and it deemed these impacts to be minimal. The BLM expects that impacts from this final rule will affect a small number of outfitters and will have only a minor socioeconomic impact relative to the area's overall economy. For more economic information and analyses, please refer to the four RMPs listed earlier in this preamble and their supporting documents (see ADDRESSES). The BLM has determined under the RFA that this final supplementary rule will not have a significant economic impact on a substantial number of small entities.

Congressional Review Act

This final supplementary rule is not a “major rule” as defined at 5 U.S.C. 804(2). This final supplementary rule will not:

(1) Have an annual effect on the economy of $100 million or more.

(2) Cause a major increase in costs or prices for consumers; individual industries; Federal, State, or local agencies; or geographic regions; or

(3) Have significant adverse effects on competition, employment, investment, productivity, innovation, or on the ability of United States-based enterprises to compete with foreign-based enterprises in domestic and export markets.

Unfunded Mandates Reform Act

The final supplementary rule will not impose an unfunded mandate on State, local, or Tribal governments or the private sector of more than $100 million per year; nor will it have a significant or unique effect on State, local, or Tribal governments or the private sector. Therefore, the BLM is not required to prepare a statement containing the information required by the Unfunded Mandates Reform Act (2 U.S.C. 1531 et seq.).

Governmental Actions and Interference With Constitutionally Protected Property Rights—Takings (E.O. 12630)

The final supplementary rule does not constitute a government action capable of interfering with constitutionally protected property rights. The final supplementary rule does not address property rights in any form and will not cause the impairment of constitutionally protected property rights. Therefore, the BLM has determined that this final supplementary rule will not cause a “taking” of private property or require further discussion of takings implications under this Executive order.

Federalism (E.O. 13132)

This final supplementary rule will not have a substantial direct effect on the States, on the relationship between the national government and the States, or on the distribution of power and responsibilities among the various levels of government. Therefore, in accordance with E.O.13132, the BLM has determined that this final supplementary rule does not have sufficient Federalism implications to warrant preparation of a Federalism Assessment.

Civil Justice Reform (E.O. 12988)

Under E.O. 12988, the BLM has determined that this final supplementary rule will not unduly burden the judicial system and that it meets the requirements of Sections 3(a) and 3(b)(2).

Consultation and Coordination With Indian Tribal Governments (E.O. 13175 and Departmental Policy)

In accordance with E.O. 13175, the BLM has found that this final supplementary rule does not include policies that have Tribal implications and will have no bearing on trust lands or on lands for which title is held in fee status by Indian Tribes or U.S. Government-owned lands managed by the Bureau of Indian Affairs.

Paperwork Reduction Act

This final supplementary rule does not contain information collection requirements that the Office of Management and Budget must approve under the Paperwork Reduction Act of 1995, 44 U.S.C. 3501-3521.

National Environmental Policy Act

This final supplementary rule implements key decisions in the following RMPs: Colorado River Valley Field Office, Grand Junction Field Office, Kremmling Field Office, and Dominguez-Escalante NCA. The BLM's National Environmental Policy Act (NEPA) reviews for these management plans analyzed the effects of implementing the RMP decisions through a supplementary rule. The BLM prepared a Determination of NEPA Adequacy to confirm that the prior analyses and public comment processes were sufficient to inform the decision to establish this supplementary rule. Therefore, additional NEPA analysis is not required. Copies of the Environmental Impact Statements and RODs for each RMP and the Determination of NEPA Adequacy for this final supplementary rule are on file at the BLM offices (see ADDRESSES) and electronic copies are available online at https://eplanning.blm.gov/eplanning-ui/project/90071/510.

Actions Concerning Regulations That Significantly Affect Energy Supply, Distribution or Use (E.O. 13211)

This final supplementary rule does not comprise a significant energy action. This final supplementary rule will not have an adverse effect on energy supply, production, or consumption and has no connection with energy policy.

Information Quality Act

In developing this final supplementary rule, the BLM did not conduct or use a study, experiment, or survey requiring peer review under the Information Quality Act (Section 515 of Pub. L. 106-554).

Facilitation of Cooperative Conservation (E.O. 13352)

In accordance with E.O. 13352, the BLM has determined that the final supplementary rule will not impede facilitating cooperative conservation; will take appropriate account of and consider the interests of persons with ownership or other legally recognized interests in land or other natural resources; will properly accommodate local participation in the Federal decision-making process; and will provide that the associated programs, projects, and activities are consistent with protecting public health and safety.

V. Final Rule

Author

The principal author of this final supplementary rule is Erin Jones, Deputy District Manager BLM Upper Colorado River District Office.

For the reasons stated in the preamble, and under the authority of 43 U.S.C. 1733(a) and 1740, and 43 CFR 8365.1-6, the State Director establishes the following supplementary rule for public lands and facilities managed by the Colorado River Valley Field Office, Grand Junction Field Office, Kremmling Field Office, and Dominguez-Escalante National Conservation Area (NCA).

Supplementary Rule for the Colorado River Valley Field Office, Grand Junction Field Office, Kremmling Field Office, and Dominguez-Escalante National Conservation Area

Definitions and Acronyms

(1) As used in this Supplementary Rule, the term:

Approved portable toilet means any non-biodegradable, durable container designated to receive and hold human waste, in any container position without leaking, and equipped with a dumping system that allows the container to be emptied into a standard receiving or dump system designed for that purpose (such as a SCAT machine or recreational vehicle dump station), in a sanitary manner, without spills, seepage, or human exposure to human waste, or any approved biodegradable landfill-approved bag system designed for landfill or garbage can disposal (such as a “WAG” bag, a human waste disposal bag).

ATV (all terrain vehicle) means a motorized off-highway vehicle 50 inches (1¼ m) or less in width, traveling on four or more low-pressure tires, having a single seat to be straddled by the operator and a handlebar for steering control.

Camp means erecting a tent or shelter of natural or synthetic material; preparing a sleeping bag or other bedding material; parking a motor vehicle, motor home, or trailer; or mooring a vessel for the apparent purpose of overnight occupancy.

Campfire means a controlled fire occurring out of doors, used for cooking, branding, personal warmth, lighting, ceremonial, or aesthetic purposes.

Designated campsite means a BLM-designated campsite, marked with a visible number or identification mounted on a post or placard. Designated sites may be undeveloped or developed with basic amenities.

Developed recreation site. See definition at 43 CFR 8360.0-5(c).

Developed toilet facility means a vault-type, pit, or portable toilet provided by the BLM or its partners.

Dispersed campsite means an undesignated campsite not located in a campground that is traditionally used for camping.

Firearm means a weapon, by whatever name known, that is designed to expel a projectile by the action of powder; and be readily capable of use as a weapon.

Fire pan means a durable metal pan at least 12 inches in diameter with at least a 1.5-inch lip around its outer edge and sufficient to contain fire and fire remains containing fire, charcoal, and ash, while preventing ashes or burning material from spilling onto the ground, and that is elevated above the ground.

Fire ring means a ring designed to contain a fire on the ground, constructed of non-flammable, natural or manmade materials, that is not considered a designated trash receptacle.

Intent to camp means any off-loading or preparing for use of common overnight equipment, such as tents, sleeping bags or bedding, food, cooking or dining equipment, or lighting equipment, or preparing common camping equipment for use in or on any boat.

Mechanized travel means moving by means of a mechanical device, such as a bicycle or game retrieval cart, not powered by a motor.

Motorized travel means moving in vehicles propelled by motors or engines, such as cars, trucks, off-highway vehicles, motorcycles, snowmobiles, and boats.

OHV (off highway vehicle) means all-terrain vehicles (ATVs), utility terrain vehicles (UTVs), and snowmobiles.

Over-snow vehicle means a motor vehicle that is designed for use over snow and that runs on a track or tracks and/or a ski or skis, while in use over snow.

Public lands means any lands and interests in lands owned by the United States and administered by the Secretary of the Interior through the Bureau of Land Management (BLM) without regard to how the United States acquired ownership, except for:

(a) lands located on the Outer Continental Shelf and

(b) lands held for the benefit of Indians, Aleuts, and Eskimos.

Recreational target shooting means target shooting that uses any devices to propel a projectile, including but not limited to firearms, bow and arrow, sling shots, paint ball guns, and air guns. Target shooting is not considered hunting. Hunting with a valid hunting license is allowed in areas that are closed to target shooting.

Resource damage means impacts to natural resources or public lands due to injury, destruction, or loss of natural resources, resulting in the necessary restoration or replacement of such natural resources.

Sport rock climbing means a style of climbing that relies on fixed protection against falls, usually bolts and/or top anchors.

Target means an object constructed of wood, paper, or biodegradable materials, or commercially manufactured and designed for target shooting, and that may be supported by a target frame (e.g., metal or PVC frame).

Target backstop means an unobstructed earthen mound, bank, or other feature that must stop the progress of and contain all projectiles, fragments, and ricochets in a safe manner.

UTV (utility terrain vehicle) means a motorized vehicle designed for off-highway use and capable of manuevering over uneven terrain, designed with side-by-side seats, seatbelts, steering wheel, four or more low pressure tires, and a rollover protection system.

Vehicle means any motorized transportation conveyance designed and licensed for use on roadways, such as an automobile, bus, motorcycle, or truck, and any motorized conveyance originally equipped with safety belts.

WAG bag means any approved, commercially engineered, biodegradable, landfill-approved bag system containing enzymes, polymers, or waste-alleviating gelling compounds that is designed for landfill or garbage can disposal (such as a “Waste Alleviation and Gelling” bag, a human waste disposal bag). The bag system must be made of puncture resistant material, must be spill proof, hygienic, and approved for disposal in any garbage can.

(2) As used in this final supplementary rule, the following additional acronyms apply:

ACEC means Area of Critical Environmental Concern.

ERMA means Extensive Recreation Management Area.

NCA means National Conservation Area.

OHV means off-highway vehicle.

RMA means Recreation Management Area.

RMZ means Recreation Management Zone.

SRMA means Special Recreation Management Area.

USFS means United States Forest Service.

WSA means Wilderness Study Area.

Prohibited Acts

Unless otherwise authorized, the following acts are prohibited on all public lands, roads, trails, and waterways administered by the Colorado River Valley Field Office, Grand Junction Field Office, Kremmling Field Office, and Dominguez-Escalante NCA.

(1) You must not abandon animal carcasses, or any part of an animal carcass, within 100 feet of the outer perimeter of any campsite (designated or dispersed) or 100 feet from the edge of any roadway or any water source.

(2) You must not operate mechanical transport (e.g., bicycles, mountain bikes) other than on designated roads and trails allowing such use or in designated-open areas and within designated-open timeframes.

(3) You must not have a campfire outside of a designated campsite in the following areas:

Table 1—No Campfires Outside of Designated Campsites
[Accompanying maps in Appendix A]
Grand Junction Field Office | Dominguez-Escalante NCA
Pyramid Rock Area of Critical Environmental Concern (ACEC) Unaweep Seep ACEC | In the Gunnison River SRMA Corridor and other riparian and wetland areas.
Dolores River Riparian ACEC
Bangs SRMA Recreation Management Zone (RMZ) 1
Bangs SRMA RMZ 3
Bangs SRMA RMZ 2 in the portion of the RMZ north of the drainage at the bottom of Rough Canyon
Palisade Rim SRMA
Grand Valley Shooting Ranges ERMA
Gunnison River Bluffs ERMA
Horse Mountain ERMA RMZ 1
Horse Mountain ERMA RMZ 2
Horse Mountain ERMA RMZ 3
18 Road Open OHV Area within the North Desert ERMA
Within 100 meters (or approximately 328 feet) of standing historic structures to include, but not limited to, Calamity Camp and New Verde Mine, unless administratively permitted

(4) You must not camp outside of designated campsites and developed campgrounds in the following areas:

Table 2—Camping Restricted to Designated Campsites and Developed Campgrounds Only
[Accompanying maps in Appendix A]
Colorado River Valley Field Office | Grand Junction Field Office | Kremmling Field Office | Dominguez-Escalante NCA
Within 0.25-mile of the Fisher Creek Cemetery Road Within 300 feet from the centerline of North Hardscrabble Access Road (Spring Creek) Glenwood Canyon in the Horseshoe Canyon (Bend) area Within 0.25-mile of Prince Creek Road (Pitkin County Road 7), including the Haines Parcel Eagle River ERMA Garfield Creek Colorado River Access Site and on surrounding BLM lands | Pyramid Rock ACEC Unaweep Seep ACEC Dolores River Riparian ACEC Bangs SRMA RMZ 1 Bangs SRMA RMZ 2 in the portion of the RMZ north of the drainage at the bottom of Rough Canyon Bangs SRMA RMZ 3 Dolores River SRMA North Fruita Desert SRMA Palisade Rim SRMA Grand Valley Shooting Ranges ERMA | Within 0.25-mile of the Colorado River of the Upper Colorado River SRMA The open OHV area south and east of Wolford Mountain Wolford SRMA Recreation Management Zone 3—Lands west of Grand County Road 224, south of Wolford Mountain, west of Wolford Reservoir, and east of U.S. Hwy 40 Confluence Recreation Site, and adjacent BLM-managed public lands | Cactus Park SRMA. Gunnison River SRMA. Escalante Canyon SRMA, including the Escalante Potholes Recreation Site. RMZ 2 Sawmill Mesa/Wagon Park ERMA.
Silt Mesa ERMA (BLM lands south of the crest of the Grand Hogback mountain) | Gunnison River Bluffs ERMA Horse Mountain ERMA (all RMZs) | Reeder Creek Fishing Access, and adjacent BLM-managed public lands
Thompson Creek area within 0.25-mile of USFS Road 305 Red Hill SRMA (north of Carbondale, Colorado) East Glenwood Canyon Trailhead area north of the Colorado River South Canyon Recreation Site and surrounding area Ute Trailhead (near Dotsero) west and north of the Colorado River Sutey Ranch | 18 Road Open OHV Area within the North Desert ERMA Miracle Rock Recreation Site Mud Springs Campground Within 100 meters (or approximately 328 feet) of standing historic structures to include, but not limited to, Calamity Camp and New Verde Mine, unless administratively permitted | Sunset Fishing Access, and adjacent BLM managed public lands Windy Gap Fishing Access Parking Area Fraser River Fishing Access Parking Area Sidewinder Jeep Trail Parking Area Kremmling Cretaceous Ammonite Site
|  | Barger Gulch Paleo-Indian Site
|  | Yarmony Pit House Site
|  | Upper CO River SRMA Yarmony Jeep Trail Recreation Management Zone 4
|  | Independence Mountain Tipi Site
|  | Junction Butte Wetlands
|  | Upper CO River SRMA Gore Canyon Ranch Recreation Management Zone 5
|  | Hurd Peak and Tab Rock staging areas
|  | Headwaters RMA Jacques staging area, and adjacent BLM-managed public lands
|  | North Sand Hills Instant Study Area

(5) Equestrian travel is prohibited on or in the following trails and areas:

Table 3—Areas Closed to Equestrian Travel
[Accompanying maps in Appendix A]
Colorado River Valley Field Office | Grand Junction Field Office | Kremmling Field Office
Storm King Trail Sutey Ranch from December 1 through April 15 | Pyramid Rock ACEC Mica Mine Trail Rough Canyon Trail | Kremmling Cretaceous Ammonite ACEC/Resource Natural Area. Fraser River Canyon Access Trail.
| Free Lunch Trail | Gore Canyon Trail.
| Pucker Up Trail | Argentine Trail.

(6) Recreational target shooting is prohibited on the following BLM-managed lands to protect visitor safety (discharge of firearms, other weapons, and fireworks on developed recreation sites and areas is prohibited under 43 CFR 8365.2-5(a)):

Table 4—Areas Where Recreational Target Shooting is Prohibited
[Accompanying maps in Appendix A]
Colorado River Valley Field Office | Grand Junction Field Office | Kremmling Field Office | Dominguez-Escalante NCA
Within 300 feet from the centerline of North Hardscrabble Access Road (Spring Creek) Silt Mesa ERMA (BLM lands south of the crest of the Grand Hogback Mountain) | Bangs SRMA RMZs 1, 2, and 3 Coal Canyon and Main Canyon areas Grand Valley OHV SRMA Gunnison River Bluffs ERMA Horse Mountain ERMA, including RMZ 1 west of Sink Creek, RMZ 2, and areas adjacent to residences at the end of C Road | Upper Colorado River SRMA Barger Gulch fishing access Highway 9 fishing access Reeder Creek fishing area Reeder Creek parking/access Sunset fishing access Upper Colorado River corridor and Scenic Byway Hebron Watchable Wildlife Area Wolford SRMA, south portion | Dominguez Canyon Wilderness Zone 1. Gunnison River SRMA. Escalante Canyon SRMA. East Creek ERMA.
| Mt. Garfield ACEC North Desert ERMA18 Road Open OHV area North Fruita Desert SRMA Palisade Rim SRMA Pyramid Rock ACEC | Strawberry SRMA, Strawberry/Hurd Peak Area North Sand Hills SRMA and Cooperative Management Area Headwaters ERMA Kinney Creek trailhead Jacques parking area

(7) Overnight use is prohibited in the following areas (day-use allowed only):

Table 5—Day Use Only—Overnight Use Prohibited
[Accompanying maps in Appendix A]
Colorado River Valley Field Office (Use prohibited from 10:00 p.m.-6:00 a.m.) | Grand Junction Field Office (Use prohibited from Sunset-Sunrise) | Kremmling Field Office (Use prohibited from Sunset-Sunrise) | Dominguez-Escalante NCA (Use prohibited from Sunset-Sunrise)
BLM recreation sites where camping facilities are not provided Deep Creek Canyon—within 0.25-miles of Deep Creek accessible from the Coffee Pot Road Sutey Ranch | 34 and C Roads (areas adjacent to the Horse Mountain ERMA) Grand Valley Shooting Ranges ERMA (with an exception for authorized training exercises) Horse Mountain ERMA (RMZ 1 (portion of the RMZ west of Sink Creek), RMZ 2 and RMZ 3) | BLM recreation sites where camping facilities are not provided | Rambo/Little Dominguez Canyon Heritage Area. The Wilderness portion of Big Dominguez Heritage Area. The Wilderness portion of Leonard's Basin Heritage Area. Wilderness Zone 1. Wilderness portion of the Leonards Basin Heritage Area. East Creek ERMA.
| Redlands Dam area along the Gunnison River The Potholes on the Little Dolores River off of 9.8 Road in the Glade Park area

(8) The following areas are closed to mechanized travel during the specified timeframes to protect wintering big game species:

Table 6—Areas Closed to Mechanized Travel During Winter/Spring
[Accompanying maps in Appendix A]
Colorado River Valley Field Office (December 1 through April 15) | Grand Junction Field Office (December 1 through May 1) | Kremmling Field Office (December 15 through April 15) | Dominguez-Escalante NCA (December 1 through April 30)
Basalt Mountain (south portion—1,300 acres) Boiler-East Elk Creek-New Castle (4,400 acres) Cottonwood Creek (13,800 acres) Dry Rifle Creek (2,200 acres) | Little Book Cliffs Wild Horse Range Beehive Wildlife Emphasis Area (WEA) Blue Mesa WEA East Salt Creek WEA Rapid Creek WEA | Strawberry SRMA Wolford Mountain Travel Management Area and SRMA North Sand Hills SRMA | Gibbler Gulch. Wagon Park. Sowbelly. Upper Sawmill Mesa. Dry Mesa.
East Eagle except for the following bike trails: (a) Boneyard Trail; (b) Redneck Ridge Trail; and (c) Western portion of Pool and Ice Trail (6,000 acres) | Chalk Mountain Coal Canyon Demaree Canyon outside of the Wilderness Study Area (WSA) Garvey Canyon
Fisher Creek-Cattle Creek (2,800 acres) Flatiron Mesa (800 acres) | Grand Mesa Slopes Howard Canyon Flats Indian Point
Hardscrabble (24,600 acres)
Light Hill (3,800 acres)
Red Canyon-Hells Pocket-Bocco Mountain-East Castle Peak (14,500 acres) | Post Canyon Lapham Canyon Fruita Slopes Rapid Creek
Red Hill SRMA (north side) (2,600 acres)
The Crown, except for the bike trail system paralleling Prince Creek Road (9,200 acres)
Thompson Creek/Holgate Mesa (9,500 acres)
West Rifle Creek (1,100 acres)
Williams Hill (1,500 acres)
Winter Ridge, Black Mountain, Pisgah Mountain,Windy Point, Boore Flat, and Domantle (33,500 acres)

Restrictions on Activities on Public Lands Managed by the Colorado River Valley Field Office

(1) You must not engage in target shooting without a target backstop.

(2) You must not build or maintain a fire more than 3 feet in diameter, unless otherwise authorized.

(3) Unless the campsite is marked and designated by the BLM, you must not camp within 100 feet from any spring, pond, lake, or perennial stream.

(4) You must keep dogs and other domesticated animals on a leash or other similar constraint (e.g., voice control, shock collar) where indicated by a BLM sign, brochure, or map. This regulation does not apply to livestock-working or hunting dogs engaged in those activities. You must remove and properly dispose of all pet waste from developed recreation sites and areas.

(5) You must not cut live or dead standing trees unless otherwise permitted. You may collect only dead and down wood for campfires.

(6) You must not camp or otherwise occupy any location or site for more than 7 consecutive days from April 1 to August 31, unless otherwise authorized in writing by the BLM.

(7) You must not camp or otherwise occupy any location or site for more than 14 consecutive days between September 1 and March 31, unless otherwise authorized in writing by the BLM.

(8) In areas with limited travel designations, mechanized travel is limited to designated routes.

(9) In areas with limited travel designations, mechanized and motorized travel up to 300 feet from designated motorized or mechanized routes is permitted for direct access to dispersed campsites provided that:

(a) No resource damage occurs;

(b) No new routes beyond the campsite are created; and

(c) Such access is not otherwise prohibited (such as in WSAs).

(10) In areas open for over-snow travel, travel off designated routes is prohibited unless a minimum of 12 inches of snow cover exists and no resource damage will occur from over-snow travel.

(11) In the Thompson Creek ERMA:

(a) You may reestablish old rock-climbing routes and permanent fixed climbing anchors (bolts and pitons) only at the BLM-recognized sport rock climbing area (rock fins, narrow walls of hard sedimentary rock).

(b) You must not develop additional bolted routes outside of the BLM-recognized sport rock climbing area.

(c) You may use mechanical devices (e.g., power drills) only at the BLM-recognized sport rock climbing area.

(d) You must not exceed a climbing group size (per route) of four people per day, including staff, at the BLM-recognized sport rock climbing area.

(12) In the Upper Colorado SRMA:

(a) You must not exceed a group size of 25 people per group (including guides) for commercial and private river groups.

(b) You must not camp or display an intent to camp during an overnight river trip without an approved fire pan.

(c) You must not camp, or display an intent to camp, overnight without an approved portable toilet.

(d) You must carry and use an approved portable toilet on an overnight trip. The system must be adequate for the size of the group and length of the trip. All solid human bodily waste, including WAG bags, must be contained in a leak-proof, hard-sided container with a screw-on or ratchet-locking lid.

(e) You must not fail to set up an approved portable toilet, ready for use, as soon as practical upon arriving at the campsite to be occupied on an overnight trip if a toilet facility (porta-potty or vault toilet) is not provided by the BLM.

(f) You must not empty an approved portable toilet into a developed toilet facility, or any other facility not developed and identified especially for that purpose. Leaving solid human waste on public lands or dumping it into vault toilets is prohibited. Only WAG-bag systems (see definition) may be disposed of in trash receptacles at BLM-managed facilities.

(g) You must remove and properly dispose of all pet waste from developed recreation sites and areas.

(13) On the Sutey Ranch:

(a) You must not enter from December 1 through April 15 when closure orders are in effect to protect wintering big game, except when allowed under other applicable laws.

(b) You must not harvest timber, firewood, or special forest products.

(c) You must not travel by mechanized vehicle from October 1 through May 31.

Restrictions on Activities on Public Lands Managed by the Grand Junction Field Office

(1) You must not engage in target shooting without a target backstop.

(2) You must use an approved portable toilet at designated undeveloped sites in the following areas: North Fruita Desert SRMA, Bangs SRMA RMZ 2, and Dolores River SRMA.

(3) You must not enter the Pyramid Rock ACEC.

(4) You must not travel via any mode of transport (including foot and horse travel) off designated routes in the following areas: Bangs SRMA RMZ 1 north of Little Park Road and Andy's Loop, and Gunnison River Bluffs ERMA.

(5) You must not collect dead and down wood in the following areas, except for campfire use: Unaweep lands with wilderness characteristics area; riparian areas; Pyramid Rock ACEC; Unaweep Seep ACEC; Bangs SRMA RMZ 2.

(6) You must collect only dead and down wood for campfires in the North Desert ERMA.

(7) You must not harvest timber or cut firewood in the following areas: Bangs SRMA RMZ 1; RMZ 3; RMZ 4; North Fruita Desert SRMA; Palisade Rim SRMA.

(8) You must not exceed the following group-size limits, including guides and dogs, without written authorization from the BLM: 12 in WSAs and areas managed to protect wilderness characteristics; and 25 for more than 2 hours in the remaining lands managed by the Grand Junction Field Office. For groups that exceed these limits, you must contact the BLM prior to the outing so that the BLM can determine whether an organized group Special Recreation Permit is required.

(9) You must have campfires within agency-provided fire rings or approved fire pans at designated undeveloped sites in the following areas: Dolores River SRMA, Bangs SRMA RMZ 2, North Fruita Desert SRMA.

(10) You must not install permanent climbing anchors that do not match the color of the rock surface (fixtures, hardware, and webbing, etc.).

Restrictions on Activities on Public Lands Managed by the Kremmling Field Office

(1) You must not engage in target shooting without a target backstop.

(2) You must not empty or dispose of sewage and/or gray water held in a containment tank on public lands or at any facility not specifically identified for such disposal.

(3) You must not build or maintain a fire more than 3 feet in diameter, unless otherwise authorized in writing by the BLM.

(4) You must not leave, deposit, or scatter human waste, toilet paper, or items used as toilet paper, when an approved portable toilet or developed toilet facility is available. Where a developed toilet facility is not provided, and an approved portable toilet is not required, all human waste and toilet paper, or material used as toilet paper, must be buried at least 6 inches below the surface of the ground in natural soil, and at least 100 feet from the edge of a river or any other water source.

(5) You must not dig in or level the ground at any campsite.

(6) In areas open to dispersed camping, you must not camp outside of designated sites within 50 feet of any spring, pond, lake, or perennial stream.

(7) You must keep dogs and other domesticated animals on a leash or other similar constraint (e.g., voice control, shock collar). This regulation does not apply to livestock-working or hunting dogs engaged in those activities. You must remove and properly dispose of all pet waste from developed recreation sites and areas.

(8) Fuel wood collection is prohibited in developed recreation areas. Fuel wood for recreational campfires outside of developed recreation areas is limited to dead and downed vegetation, unless otherwise prohibited.

(9) You must not camp or otherwise occupy any location or site for more than 7 consecutive days from April 1 to August 31, unless otherwise authorized in writing by the BLM.

(10) You must not camp or otherwise occupy any location or site for more than 14 consecutive days between September 1 and March 31, unless otherwise authorized in writing by the BLM.

(11) In areas open for over-snow travel in the field office, travel off designated routes is prohibited unless a minimum of 12 inches of snow cover exists and no resource damage will occur from over-snow travel.

(12) In areas with limited travel designations, mechanized travel is limited to designated routes.

(13) In areas with limited travel designations, motorized and mechanized travel (bicycles) are allowed up to 300 feet from designated motorized or mechanized transport routes for direct access to dispersed campsites or parking provided that:

(a) No resource damage occurs;

(b) No new routes are created; and

(c) Such access is not otherwise prohibited.

(14) In the Wolford Mountain Travel Management Area, motorized and mechanized travel (bicycles) is allowed up to 50 feet from designated motorized or mechanized routes for direct access to dispersed campsites or parking provided that:

(a) No resource damage occurs;

(b) No new routes are created; and

(c) Such access is not otherwise prohibited.

(15) In the North Sand Hills SRMA:

(a) You must not park a vehicle in such a manner as to impede or obstruct the normal flow of traffic or create a hazardous condition.

(b) You must obey posted parking closures or restrictions.

(c) You must not operate a motor vehicle or OHV in excess of the posted speed limit, or in excess of 15 mph around camping areas, 50 feet from any campsite, parked vehicle(s), person(s), or animal(s).

(d) You must not possess or use any glass container on the open sand dunes or trails. Persons may possess glass containers within the confines of their camping area.

(e) You must not cut, collect, or use live, dead, or down wood.

(16) In the Wolford Mountain SRMA:

(a) You must possess and use a hazardous materials spill kit, if necessary, during travel on the Sidewinder Extreme 4x4 trail.

(b) Travel is allowed on the Sidewinder Extreme 4x4 trail only when the top 1 inch of soil is dry and there is no rutting.

(17) In the Upper Colorado River SRMA:

(a) You must not camp, or display intent to camp overnight, without an approved portable toilet.

(b) You must carry and use an approved portable toilet when on an overnight trip. The system must be adequate for the size of the group and length of the trip. The toilet system must be a reusable, washable, leak-proof toilet system that allows for the carry-out and disposal of solid human body waste in a responsible and lawful manner and must be accessible during the trip.

(c) All solid human waste, including WAG bags, must be contained in a leak-proof, animal-proof, hard-sided container with a screw-on or ratchet-locking lid.

(d) You must set up an approved portable toilet, ready for use, as soon as practical upon arriving at the campsite to be occupied on an overnight trip. You must not empty an approved portable toilet into a developed toilet facility, or any other facility not developed and identified especially for that purpose. Leaving solid human waste on public lands or dumping it into vault toilets or trash receptacles at BLM-managed facilities is prohibited.

(e) You must not camp or display intent to camp during an overnight river trip without an approved fire pan.

(f) You must not build, ignite, maintain, or use a campfire not contained in an approved fire pan.

(g) You must not leave fresh fire ash produced from a campfire in a fire pan or in a constructed, permanently installed metal fire pit provided by the BLM except at the Pumphouse, Radium, and State Bridge Recreation Sites. Fire blankets under fire pans to facilitate total ash removal are recommended but are not required.

(h) You must remove and properly dispose of all pet waste from developed recreation sites and areas.

(i) You must not launch or take out a vessel in areas signed as prohibiting those activities.

(j) You must not cut, collect, or use live, dead, or down wood except driftwood.

Restrictions on Activities on Public Lands in the Dominguez-Escalante NCA

(1) You must not engage in target shooting without a target backstop.

(2) You must not install permanent climbing anchors in outstanding geologic features identified on a BLM sign or map.

(3) You must not place or maintain permanent climbing anchors inside the Dominguez Canyon Wilderness Area without a permit from the BLM.

(4) You must not install permanent climbing anchors that do not match the color of the rock surface (fixtures, hardware, and webbing, etc.).

(5) You must not collect or harvest firewood or native species in riparian and wetland areas, except for driftwood.

(6) You must not possess domestic goats.

(7) You must keep all domestic dogs on leashes, except those actively working on a livestock operation in Wilderness Zone 1 and in the Escalante Triangle RMZ in the Sawmill Mesa ERMA (after the loop trail system is constructed).

(8) You must not exceed group-size limit of 25 people in Wilderness Zone 1.

(9) You must not exceed a group-size limit of 12 people in Wilderness Zones 2 and 3.

(10) You must pack out all solid human waste in Wilderness Zone 2.

(11) You must pack out solid human waste or bury solid human waste in a cathole of at least 6 inches deep and more than 100 meters (approximately 383 feet) from natural water sources (rivers, creeks, springs, and seeps) in Wilderness Zone 3.

(12) You must not place recreational geocaches without BLM authorization prior to placement.

(13) You must not use a metal detector.

(14) You must not use a paintball gun.

(15) You must not use glass containers in the Potholes Recreation Site (Escalante Canyon) and Gunnison River SRMA.

(16) Consistent with Public Law 111-11, you must not remove minerals from the NCA.

(17) You must pack out solid human waste and fire ash. You must use portable toilet systems and fire pans for all overnight camping in undeveloped camp sites in the following RMAs: Gunnison River, Cactus Park, Escalante Canyon.

(18) You must not rock climb (e.g. bouldering, scrambling, trad climbing, or sport climbing) in the East Creek RMA or Escalante Canyon RMA in areas or on routes marked as closed by the BLM.

(19) You must not ride a horse, donkey, mule, or burro in Wilderness Zone 1 except on existing routes identified on a BLM sign or map.

(20) In the Gunnison River RMA:

(a) Motorized boat use is prohibited at BLM boat ramps and at campsites from May 1 through Labor Day Weekend.

(b) You must not have your dog off leash at boat ramps or the mouth of Dominguez Canyon.

(c) Exceeding a group size of 25 on the river (including guides and dogs) is prohibited.

(d) You must not camp outside of designated campsites.

(e) Non-boating overnight camping is prohibited at the mouth of Dominguez Canyon from May 1 through Labor Day Weekend.

(f) You must not camp more than 7 consecutive nights, unless otherwise authorized in writing by the BLM.

(21) In the Ninemile Hill Recreation Management Area (RMA):

(a) You must not camp outside of designated campsites. Dispersed camping is allowed outside of designated campsites, so long as such camping takes place at least a ¼ mile (approximately 1320 feet) away from designated motorized routes.

(b) You must not camp for more than 7 consecutive days, unless otherwise authorized in writing by the BLM.

(22) In the Cactus Park RMA:

(a) You must not camp outside of designated campsites.

(b) You must not camp for more than 7 consecutive days from April 1 through Labor Day Weekend unless otherwise authorized by the BLM.

(23) In the Hunting Ground RMA, you must not camp for more than 7 consecutive days, unless otherwise authorized in writing by the BLM.

Exemptions

The following persons are exempt from this supplementary rule: Federal, State, or local officers or employees acting within the scope of their official duties; members of any organized law enforcement, military, rescue or fire fighting force performing an official duty; and persons whose activities are authorized in writing by the BLM.

Enforcement

Any person who violates any part of this supplementary rule may be tried before a United States Magistrate and fined in accordance with 18 U.S.C. 3571, imprisoned no more than 12 months under 43 U.S.C. 1733(a) and 43 CFR 8360.0-7, or both. In accordance with 43 CFR 8365.1-7, State or local officials may also impose penalties for violations of Colorado law.

(Authority: 43 U.S.C. 1733, 43 U.S.C. 1740; 43 CFR 8365.1-6).

Douglas J. Vilsack,
BLM Colorado State Director.

[FR Doc. 2024-30218 Filed 12-18-24; 8:45 am]

BILLING CODE 4331-16-P